DEPARTMENT OF STATE

[Public Notice 11904]

Determination Under Section 610 of the Foreign Assistance Act of 1961

Pursuant to the authority vested in me by section 610 of the Foreign Assistance Act of 1961 (FAA) and section 8003(d) of the Department of State, Foreign Operations, and Related Programs Appropriations Act, 2017 (Div. J, Pub. L. 115-31), I hereby determine that it is necessary for the purposes of the FAA that up to $14,638,106 of FY 2017 Peacekeeping Operations—Overseas Contingency Operations (PKO-OCO) funds be transferred to, and consolidated with, the Economic Support Fund (ESF) OCO account to provide assistance in support of international climate objectives. Such funds are hereby so transferred and consolidated.

This determination shall be reported to Congress and published in the Federal Register.

Dated: September 7, 2022.
Antony J. Blinken,
Secretary of State.

[FR Doc. 2022-23584 Filed 10-28-22; 8:45 am]

BILLING CODE 4710-10-P